DEPARTMENT OF HOUSING AND URBAN DEVELOPMENT

[Docket No. FR-4800-FA-10]

Notice of Funding Awards; Mainstream Housing Opportunities for Persons With Disabilities (Mainstream Program) for Fiscal Year 2003

AGENCY: Office of Public and Indian Housing, HUD.

ACTION: Announcement of funding awards.

SUMMARY: In accordance with Section 102(a)(4)(C) of the Department of Housing and Urban Development Reform Act of 1989, this announcement notifies the public of funding decisions made by the Department for funding under the Notice of Funding Availability (NOFA) for the Mainstream Program for Fiscal Year (FY) 2003. This announcement contains the consolidated names and addresses of those award recipients selected for funding based on the rating and ranking of all applications and the allocation of funding available for each state.

FOR FURTHER INFORMATION CONTACT: For questions concerning the FY2003 Mainstream awards, contact the Office of Public and Indian Housing's Grant Management Center, Director, Iredia Hutchinson, Department of Housing and Urban Development, Washington, DC 20410-5000, telephone (202) 358-0221. For the hearing- or speech-impaired, these numbers may be accessed via TTY (text telephone) by calling the Federal Information Relay Service at 1 (800) 877-8339. (Other than the “800” TTY number, these telephone numbers are not toll-free.)

SUPPLEMENTARY INFORMATION: The authority for the $53.6 million in five-year budget authority and approximately 1,800 vouchers for use in the housing of elderly and non-elderly disabled families is found in the Departments of Veteran Affairs and Housing and Urban Development and Independent Agencies Appropriations Act, FY 2003 (Pub. L. 108). The allocation of housing assistance budget authority is pursuant to the provisions of 24 CFR part 791, subpart D, implementing section 213(d) of the Housing and Community Development Act of 1974, as amended.

This program is intended to provide vouchers under the Housing Choice Voucher Program to enable people with disabilities (elderly and non-elderly) to access affordable private money. The FY 2003 awards announced in this notice were selected for funding in a competition announced in a Federal Register NOFA published on April 25, 2003 (68 FR 21905). Applications were scored based on the selection criteria in that notice and funding selections made based on the rating and ranking of applications within each state.

In accordance with Section 102(a)(4)(C) of the Department of Housing and Urban Development Reform Act of 1989 (103 Stat. 1987, 42 U.S.C. 3545), the Department is publishing the names, addresses, and amounts of the 771 awards made under the Mainstream Program competitions.

Dated: December 3, 2003.
Michael Liu,
Assistant Secretary for Public and Indian Housing.

List of Awardees for Funding Awards for the Housing Choice Vouchers Mainstream Program
[Fiscal Year 2003]
Applicant name | Address | Vouchers | Amount (dollars)
Jefferson County Housing Authority | 3700 Industrial Parkway, Birmingham, Alabama 35217 | 50 | $1,372,170
Arizona Behavioral Health Corporation | 1406 North Second Street, Phoenix, Arizona 85004 | 50 | 1,562,070
Anaheim Housing Authority | 201 S. Anaheim Boulevard, Second Floor, Anaheim, California 92805 | 50 | 2,200,680
Housing Authority of the City of Fresno | 1331 Fulton Mall, P.O. Box 11985, Fresno, California 93776-1985 | 42 | 1,063,717
Housing Authority of the County of San Diego | c/o Michael Dececchi, 3989 Ruffin Road, San Diego, California 92123 | 50 | 2,072,490
Colorado Department of Human Services | 4131 S. Julian Way, Denver, Colorado 80236 | 50 | 1,483,290
Colorado Division of Housing | 1313 Sherman Street, Room 518, Denver, Colorado 80203 | 50 | 1,776,930
Boley Centers for Behavioral Health Care, Inc. | 455 31st Street N., St. Petersburg, Florida 33713 | 31 | 917,519
Broward County Housing Authority | 3810 Inverrary Blvd., Suite 405, Lauderhill, Florida 33319 | 50 | 2,237,310
Carrfour Supportive Housing | 155 South Miami Avenue, #1150, Miami, Florida 33131 | 50 | 2,188,150
Housing Authority of the City of Atlanta | 230 John Wesley Dobbs Avenue, NE, Atlanta, Georgia 30303-2429 | 50 | 2,130,000
Chicago Housing Authority | 626 W. Jackson Boulevard, Chicago, Illinois 60661 | 50 | 2,035,080
Housing Authority of the Village of Oak Park | 21 South Boulevard, Oak Park, Illinois 60302 | 50 | 1,954,770
American Training, Inc. | 102 Glenn Street, Lawrence, Massachusetts 01843 | 50 | 2,674,000
Brockton Area Multi-Services, Inc. | 500 Belmont Street, Suite 230, Brockton,Massachusetts 02301 | 14 | 625,400
Greater Lynn Mental Health and Retardation | 37 Friend Street, P.O. Box 408, Lynn, Massachusetts,01903 | 50 | 2,049,750 408
Community Enterprises Corporation, Inc. | 11 Spring Street, Freehold, New Jersey 07728 | 50 | 1,988,430
Jersey City Episcopal Community Development Corporation | 118 Summit Avenue, Jersey City, New Jersey 07304-3008 | 50 | 2,003,560
Family and Children Association | 100 East Old Country Road, Mineola, New York 11501 | 50 | 2,636,170
Cuyahoga Metropolitan Housing Authority | 1441 West 25th Street, Cleveland, Ohio 44113 | 50 | 1,715,490
Emerald Development & Economic Network (EDEN), Inc. | 7812 Madison Ave., Cleveland, Ohio 44102 | 50 | 1,740,490
1260 Housing Development Corporation | 2042-48 Arch Street, 2nd Floor, Philadelphia, Pennsylvania 19103 | 50 | 1,963,240
Allegheny County Housing Authority | 625 Stanwix Street, Pittsburgh, Pennsylvania 15222 | 49 | 1,220,100
Philadelphia Housing Authority | 12 South 23rd Street, Philadelphia, Pennsylvania 19103 | 50 | 1,938,240
Tennessee Housing Development Agency | 404 James Robertson Parkway, Suite 1114, Nashville, Tennessee 37243-0900 | 50 | 1,222,110
Housing Authority of the City of Houston | P.O. Box 2971, Houston, Texas 77252-2971 | 50 | 1,773,210
The Housing Authority of the City of Dallas, Texas | 3939 N. Hampton Road, Dallas, Texas 75212 | 50 | 2,216,160
King County Housing Authority | 600 Andover Park West, Seattle, Washington 98188 | 50 | 2,223,090

[FR Doc. 03-30903 Filed 12-12-03; 8:45 am]

BILLING CODE 4210-33-P